COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before August 6, 2015.

ADDRESSES: Comments may be submitted to OMB within 30 days of the notice's publication. Comments, identified by “Process for Review of Swaps for Mandatory Clearing (OMB Control No. 3038-0097),” should be mailed to the Office of Information and Regulatory Affairs, Office of Management and Budget, Attention: Desk Officer for the Commodity Futures Trading Commission, 725 17th Street NW., Washington, DC 20503. Comments may also be submitted directly to OMB within 30 days of the notice's publication by email at OIRAsubmissions@omb.eop.gov.

Comments may be also be submitted, regarding the burden estimated or any other aspect of the information collection, including suggestions for reducing the burden, identified by “Process for Review of Swaps for Mandatory Clearing (OMB Control No. 3038-0097),” by any of the following methods:

• The Agency's Web site, via its Comments Online process: http://comments.cftc.gov. Follow the instructions for submitting comments through the Web site.

• Mail: Christopher Kirkpatrick, Secretary, Commodity Futures Trading Commission, Three Lafayette Centre, 1155 21st Street NW., Washington, DC 20581.

• Hand Delivery/Courier: Same as Mail, above.

• Federal eRulemaking Portal: http://www.regulations.gov/. Follow the instructions for submitting comments.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.

FOR FURTHER INFORMATION CONTACT: Eileen Chotiner, Division of Clearing and Risk, Commodity Futures Trading Commission, Three Lafayette Centre, 1155 21st Street NW., Washington, DC 20581, (202) 418-5467; email: echotiner@cftc.gov and refer to OMB Control No. 3038-0097.

SUPPLEMENTARY INFORMATION: This is a request for extension of a currently approved information collection.

Title: “Process for Review of Swaps for Mandatory Clearing,” (OMB Control No. 3038-0097).

Abstract: The Commodity Exchange Act and Commission regulations require a derivatives clearing organization (“DCO”) that wishes to accept a swap for clearing to be eligible to clear the swap and to submit the swap to the Commission for a determination as to whether the swap is required to be cleared. Commission Regulation 39.5 sets forth the process for these submissions. The Commission uses the information in this collection to determine whether a DCO that wishes to accept a swap for clearing is eligible to clear the swap and whether the swap should be required to be cleared.

Burden Statement: The respondent burden for this collection is estimated to average 40 hours per response.

Respondents/Affected Entities: Derivatives clearing organizations.

Estimated Number of Respondents: 14.

Estimated Total Annual Burden on Respondents: 560 hours.

Frequency of Collection: On occasion.

Authority: 44 U.S.C. 3501 et seq.

Dated: July 1, 2015.
Robert N. Sidman,
Deputy Secretary of the Commission.

[FR Doc. 2015-16611 Filed 7-6-15; 8:45 am]

BILLING CODE 6351-01-P